COMMISSION ON CIVIL RIGHTS

Agenda and Notice of Public Meeting of the Washington Advisory Committee

Notice is hereby given, pursuant to the provisions of the rules and regulations of the U.S. Commission on Civil Rights, that a meeting of the Washington State Advisory Committee to the Commission will convene at 3:30 p.m. and adjourn at 5 p.m., on February 20, 2004 at the Hotel Monaco, 1101 Fourth Avenue, Seattle, Washington 98101. The purpose of the meeting is to plan follow-up to Commission site visit.

Persons desiring additional information, or planning a Presentation to the Committee, should contact Thomas V. Pilla, Civil Rights Analyst of the Western Regional Office, 213-894-3437 (TDD/213-894-3435). Hearing-impaired persons who will attend the meeting and require the services of a sign language interpreter should contact the Regional Office at least ten (10) working days before the scheduled date of the meeting.

The meeting will be conducted pursuant to the provisions of the rules and regulations of the Commission.

Dated at Washington, DC, February 5, 2004.
Ivy L. Davis,
Chief, Regional Programs Coordination Unit.

[FR Doc. 04-3190 Filed 2-12-04; 8:45 am]

BILLING CODE 6335-01-P